DEPARTMENT OF ENERGY

Federal Energy Regulatory Commission

[Project No. 308-007]

PacifiCorp Energy; Notice of Application Tendered for Filing With the Commission and Establishing Procedural Schedule for Licensing and Deadline for Submission of Final Amendments

Take notice that the following hydroelectric application has been filed with the Commission and is available for public inspection.

a. Type of Application: Subsequent License (Minor Project).

b. Project No.: 308-007.

c. Date Filed: February 28, 2014.

d. Applicant: PacifiCorp Energy (PacifiCorp).

e. Name of Project: Wallowa Falls Hydroelectric Project.

f. Location: The existing project is located on Royal Purple Creek and the East and West Forks of the Wallowa River in Wallowa County, Oregon. The project would occupy 12.68 acres of Federal land managed by the United States Forest Service.

g. Filed Pursuant to: Federal Power Act, 16 U.S.C. 791 (a)-825(r).

h. Applicant Contact: Russ Howison, Relicensing Project Manager, PacifiCorp Energy, 825 NE Multnomah, Suite 1500, Portland, OR 97232; Telephone (503) 813-6626.

i. FERC Contact: Matt Cutlip, (503) 552-2762 or matt.cutlip@ferc.gov.

j. This application is not ready for environmental analysis at this time.

k. The Project Description: The existing Wallowa Falls Hydroelectric Project consists of the following existing facilities: (1) A 2-foot-high, 9-foot-long concrete diversion dam with a 1-foot-wide spillway on Royal Purple Creek; (2) a 240-foot-long, 8-inch-diameter wood-stave and polyvinylchloride pipeline conveying water from the Royal Purple Creek diversion dam to a de-silting pond; (3) an 18-foot-high, 125-foot-long, buttressed rock-filled timber crib dam with impervious gravel and asphalt core and a 30-foot-wide spillway on the East Fork Wallowa River; (4) a 0.2-acre de-silting pond; (5) a 2-foot-high by 2-foot-wide concrete intake structure with a headgate and steel trash rack; (6) a low-level sluiceway with a steel trash rack and cast iron gate connecting to a 2-foot-diameter steel pipe passing through the dam to provide instream flow releases to the bypassed reach; (7) a 5,688-foot-long steel penstock varying in diameter from 24 to 16 inches and consisting of buried sections or above-ground sections supported on timber crib trestles; (8) a powerhouse containing one impulse turbine-generator unit with an installed capacity of 1,100 kilowatts; (9) a 40-foot-long concrete-lined tailrace which conveys powerhouse flows to a 1,000-foot-long unlined and braided tailrace channel discharging into the West Fork Wallowa River; (10) a 20-foot-long, 7.2-kilovolt transmission line which connects to the Wallowa Falls substation; and (11) appurtenant facilities.

The project is operated run-of-river. Up to 1 cubic feet per second (cfs) of flow is diverted from Royal Purple Creek and discharged into the de-silting pond. Up to 16 cfs of water (i.e., 15 cfs maximum from East Fork Wallowa River and 1 cfs from Royal Purple Creek) is diverted through the intake structure at the East Fork Wallow River dam into the steel penstock and conveyed to the powerhouse where it flows through the single impulse turbine and discharges through the tailrace into the West Fork Wallowa River. The project's current license requires a minimum instream flow release of 0.5 cfs or inflow, whichever is less, in the bypassed reach. The current license also mandates that PacifiCorp restrict sediment flushing from the de-silting pond to the period from May 1 to August 30 to protect kokanee salmon.

PacifiCorp proposes to modify the existing facilities by constructing a buried 30-inch-diameter, 1,000-foot-long pipe and rerouting powerhouse flows from the current discharge location in the West Fork to the East Fork Wallowa River. PacifiCorp also proposes to: Increase the minimum flow release in the bypassed reach to 4 cfs or inflow, whichever is less; modify the sediment management program to only enable sediment flushing during the high-flow month of June; upgrade the instream flow compliance monitoring equipment in the bypassed reach; upgrade recreational facilities at the non-project Pacific Park Campground; and install new signage and interpretive displays at the project.

PacifiCorp proposes to amend the project boundary by adding 28.3 acres to incorporate the Pacific Park Campground, forebay access road, buried tailrace pipe, and other new project features.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis | April 2014.
Filing of recommendations, preliminary terms and conditions, and fishway prescriptions | June 2014.
Commission issues Draft EA | December 2014.
Comments on Draft EA | January 2015.
Modified Terms and Conditions | March 2015.
Commission Issues Final EA | June 2015.

o. Final amendments to the application must be filed with the Commission no later than 30 days from the issuance date of the notice of ready for environmental analysis.

Dated: March 7, 2014.
Kimberly D. Bose,
Secretary.

[FR Doc. 2014-05623 Filed 3-13-14; 8:45 am]

BILLING CODE 6717-01-P